DEPARTMENT OF HEALTH AND HUMAN SERVICES

Administration for Children and Families

Proposed Information Collection Activity; Comment Request

Proposed Projects

Title: TANF High Performance Bonus Report, Assessment of Medicaid and SCHIP Enrollment (ACF-210).

OMB No.: 0992-0007.

Description: Public Law 104-193, the Personal Responsibility and Work Opportunity Reconciliation Act of 1996 (PRWORA), established the Temporary Assistance for Needy Families (TANF) Program. It also included provisions for rewarding States that attain the highest levels of success in achieving the legislative goals of that program. The purpose of this collection, which is a proposed extension of a collection currently in use, is to obtain data upon which to base the computation for measuring State performance in meeting those goals by providing Medicaid and State Children's Health Insurance Program (SCHIP) work supports. HHS will use the information to allocate the Medicaid/SCHIP portion of the bonus grant funds appropriated under the law and implemented by 45 CFR Part 270 published on August 30, 2000. States will not be required to submit this information unless they elect to compete on a Medicaid/SCHIP measure for the TANF High Performance Bonus awards in any Federal fiscal year for which Congress authorizes and appropriates bonus funds.

Respondents: Respondents may include any of the 50 States, the District of Columbia, and the U.S. Territories of Guam, Puerto Rico, and the Virgin Islands.

Annual Burden Estimates
Instrument | Number of respondents | Number of responses per respondent | Average burden hours per response | Total burden hours
TANF High Performance Bonus Report, Assessment of Medicaid and SCHIP Enrollment Among Individuals After Leaving TANF Assistance | 54 | 2 | 40 | 4,320

Estimated Total Annual Burden Hours: 4,320.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW., Washington, DC 20447, Attn: ACF Reports Clearance Officer. E-mail address: grjohnson@acf.hhs.gov. All requests should be identified by the title of the information collection.

The Department specifically requests comments on: (1) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: September 15, 2004.
Robert Sargis,
Reports Clearance Officer.

[FR Doc. 04-21087 Filed 9-17-04; 8:45 am]

BILLING CODE 4184-01-M